DEPARTMENT OF HEALTH AND HUMAN SERVICES

Centers for Disease Control and Prevention

[30DAY-16-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, room 10235, Washington, DC 20503. Written comments should be received within 30 days of this notice.

Proposed Project: Developing Communication to Reduce Workplace Violence and Assault Against Taxicab Drivers—New—The mission of the National Institute for Occupational Safety and Health (NIOSH), Centers for Disease Control and Prevention (CDC) is to promote “safety and health at work for all people through research and prevention.” In order to carry out this goal effectively and efficiently, NIOSH and the occupational safety and health community implemented the National Occupational Research Agenda (NORA) in 1996. NORA is the first step in an ongoing, synergistic effort by the various institutions of the occupational safety and health community to identify and research the most important workplace safety and health issues. In order to accomplish the NORA objectives in preventing violence and assault in the workplace, NIOSH is conducting health communication research to determine the most effective means of promoting preventive behavior among taxicab drivers, a high risk occupational group. This research is based upon the following NIOSH publications: “Alert: Preventing Homicide in the Workplace” (NIOSH, 1993) and “Violence in the Workplace—Risk Factors and Prevention Strategies” (NIOSH, 1996).

Violence is a significant cause of injury and death in the workplace. It was the second leading cause of death in 1997, accounting for approximately 18% of worker fatalities during that year (BLS, 1998). Approximately 85% of occupational homicides involved robberies, and approximately four-fifths of the homicides were the result of shootings. An increased risk of workplace homicide was clustered within certain occupational areas including sales occupations, protective service occupations, and taxicab drivers. Furthermore, 60% of occupational fatalities within taxicab drivers were due to homicide (BLS, 1998). Although these statistics are significant, a limited amount of information is known concerning the level of worker awareness about the risk of workplace violence. In addition, little is known about the level of worker self-efficacy in regard to recommended preventive measures or the current status of the prevention strategies utilized by both the worker and employer. Therefore, the goal of this study is to identify those communication variables that are most effective in increasing the following in regard to workplace violence prevention: worker awareness, comprehension, and use of recommendations in the workplace.

The study will accomplish the following specific aims: (1) To conduct three phases of message pretesting for the purpose of determining the appropriate versions of the print variables, supporting graphics, and survey instruments to include in the study; (2) to conduct a small-scale pilot study using the communication variables and survey instruments developed in aim #1; (3) to conduct a large scale study with taxicab drivers for the purpose of determining the most effective combination of communication variables that influence attitudes, intentions, and behavior regarding the prevention of workplace violence and assault against taxicab drivers; and (4) to propose a health communication template using message framing and appropriate issue involvement manipulations that can be tested in the future for its potential use in promoting the prevention of workplace violence among high-risk occupational groups such as taxicab drivers. In addition, a follow-up survey at 1, 3, and 6 months will assess any corresponding behavior change over time.

The total burden for this project is 2,300 hours.

Respondents | Number of respondents | Number of responses | Average hour per response
Phase I Pretest | 60 | 1 | 1
Phase II Pretest | 60 | 1 | 1
Phase III Pretest | 15 | 1 | 1
Pilot Test | 300 | 1 | 30/60
Main Study | 1,500 | 1 | 20/60
Follow-up Study | ¹ 1,500 | 3 | 20/60
¹ Same as in Main Study.

Dated: January 25, 2001.
Nancy E. Cheal,
Acting Associate Director for Policy, Planning and Evaluation, Centers for Disease Control and Prevention (CDC).

[FR Doc. 01-2741 Filed 1-31-01; 8:45 am]

BILLING CODE 4163-18-P